DEPARTMENT OF THE INTERIOR

Bureau of Land Management

[AK964-1410-HY-P; AA-9206-A, SEA-3]

Alaska Lands Conveyance

AGENCY: Bureau of Land Management, Interior.

ACTION: Notice of decision.

SUMMARY: As required by 43 CFR 2650.7(d), notice is hereby given that an appealable decision directing conveyance of lands pursuant to the Alaska National Interest Lands Conservation Act will be issued to Shee Atika, Incorporated, for certain lands in T. 47 S., R. 66 E., Copper River Meridian, located in the vicinity of Sitka, Alaska, containing approximately 20 acres. Notice of the decision will also be published four times in the Ketchikan Daily News.

DATES: The time limits for filing an appeal are:

1. Any party claiming a property interest which is adversely affected by the decision shall have until September 26, 2005 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7599.

FOR FURTHER INFORMATION, CONTACT: Eileen Ford, by phone at 907-271-5715, or by e-mail at eileen_ford@ak.blm.gov. Persons who use a telecommunication device (TTD) may call the Federal Information Relay Service (FIRS) at 1-800-877-8330, 24 hours a day, seven days a week, to contact Ms. Ford.

Eileen Ford,
Land Law Examiner, Branch of Adjudication II.

[FR Doc. 05-16868 Filed 8-24-05; 8:45 am]

BILLING CODE 4310-$$-P